DEPARTMENT OF THE INTERIOR

Fish and Wildlife Service

[FWS-R3-ES-2016-N009; FXES11130300000-167-FF03E00000]

Endangered and Threatened Wildlife and Plants; Permit Applications

AGENCY: Fish and Wildlife Service, Interior.

ACTION: Notice of availability of permit applications; request for comments.

SUMMARY: We, the U.S. Fish and Wildlife Service, invite the public to comment on the following applications to conduct certain activities with endangered species. With some exceptions, the Endangered Species Act (Act) prohibits activities with endangered or threatened species unless a Federal permit allows such activity. The Act requires that we invite public comment before issuing these permits.

DATES: We must receive any written comments on or before March 3, 2016.

ADDRESSES: Send written comments by U.S. mail to the Regional Director, Attn: Carlita Payne, U.S. Fish and Wildlife Service, Ecological Services, 5600 American Blvd. West, Suite 990, Bloomington, MN 55437-1458; or by electronic mail to permitsR3ES@fws.gov.

FOR FURTHER INFORMATION CONTACT: Carlita Payne, (612) 713-5343.

SUPPLEMENTARY INFORMATION:

Background

We invite public comment on the following permit applications for certain activities with endangered species authorized by section 10(a)(1)(A) of the Act (16 U.S.C. 1531 et seq.) and our regulations governing the taking of endangered species in the Code of Federal Regulations (CFR) at 50 CFR part 17. Submit your written data, comments, or request for a copy of the complete application to the mailing address or email address shown in ADDRESSES.

Permit Applications

Permit Application Number: TE35517B

Applicant: Bryan Arnold, Illinois College, Jacksonville, IL

The applicant requests a permit renewal, with amendments to the existing permit to take (capture and release, conduct nonlethal sampling, and radio-tag) Florida bonneted bat (Eumops floridanus) and add the State of Florida. Proposed activities are for the recovery and enhancement of survival of the species in the wild.

Permit Application Number: 81974B

Applicant: Eastern Illinois University, Charleston, IL

The applicant requests a permit to take (conduct phylogeny studies) pallid sturgeon (Scaphirhynchus albus) and shovelnose sturgeon (S. platorynchus) in Illinois. Proposed activities are for the recovery and enhancement of survival of the species in the wild.

Permit Application Number: 81973B

Applicant: Chequamegon-Nicolet National Forest and Northern Research Station, Washburn, WI

The applicant requests a permit to take (capture and release, conduct nonlethal sampling, band, and radio-tag) Indiana bat (Myotis sodalis) and northern long-eared bat (M. septentrionalis) in the States of Illinois, Iowa, Maine, Michigan, Minnesota, New Hampshire, New York, Pennsylvania, Vermont, and Wisconsin. Proposed activities are for the recovery and enhancement of survival of the species in the wild.

Permit Application Number: 81968B

Applicant: Curtis Hart, Hudson, MI

The applicant requests a permit to take (capture and release, harass, conduct nonlethal sampling, band, trap, radio-tag, and salvage) Indiana bat (Myotis sodalis), northern long-eared bat (M. septentrionalis), Virginia big-eared bat (Corynorhinus townsendii virginianus), and Ozark big-eared bat (C. t. ingens) in the States of Alabama, Arkansas, Connecticut, Delaware, Florida, Georgia, Illinois, Indiana, Iowa, Kansas, Kentucky, Maine, Maryland, Massachusetts, Michigan, Minnesota, Mississippi, Missouri, Montana, Nebraska, New Hampshire, New Jersey, New York, North Carolina, North Dakota, Ohio, Oklahoma, Pennsylvania, Rhode Island, South Carolina, South Dakota, Tennessee, Texas, Vermont, Virginia, West Virginia, Wisconsin, and Wyoming. Proposed activities are for the recovery and enhancement of survival of the species in the wild.

Permit Application Number: TE697830

Applicant: Assistant Regional Director, Ecological Services, U.S. Fish and Wildlife Service, Bloomington, MN

The applicant requests a permit renewal to take listed species that occur within the States of Illinois, Indiana, Iowa, Michigan, Minnesota, Missouri, Ohio, and Wisconsin for activities to recover the species and enhance the survival of the species in the wild.

Request for Public Comments

We seek public review and comments on these permit applications. Please refer to the permit number when you submit comments. Comments and materials we receive are available for public inspection, by appointment, during normal business hours at the address shown in the ADDRESSES section. Before including your address, phone number, email address, or other personal identifying information in your comment, you should be aware that your entire comment—including your personal identifying information—may be made publicly available at any time. While you can ask us in your comment to withhold your personal identifying information from public review, we cannot guarantee that we will be able to do so.

Dated: January 27, 2016.
Lynn M. Lewis,
Assistant Regional Director, Ecological Services, Midwest Region.

[FR Doc. 2016-01840 Filed 2-1-16; 8:45 am]

BILLING CODE 4333-15-P